ELECTION ASSISTANCE COMMISSION

Sunshine Act Meetings

AGENCY: U.S. Election Assistance Commission.

ACTION: Sunshine Act notice; cancellation.

FEDERAL REGISTER CITATION OF PREVIOUS ANNOUNCEMENT: 86 FR 67455, November 26, 2021.

PREVIOUSLY ANNOUNCED TIME AND DATE OF THE MEETING: Wednesday, December 8, 2021, 12:00 p.m.-2:00 p.m. Eastern.

CHANGES IN THE MEETING: The roundtable discussion entitled “Election Official Security: Response, Preparation & Available Resources” and scheduled for December 8, 2021, 12:00 p.m. Eastern has been cancelled.

FOR FURTHER INFORMATION CONTACT: Kristen Muthig, Telephone: (202) 897-9285, Email: kmuthig@eac.gov.

Kevin Rayburn,
General Counsel, U.S. Election Assistance Commission.

[FR Doc. 2021-26525 Filed 12-2-21; 4:20 pm]

BILLING CODE 6820-KF-P